DEPARTMENT OF AGRICULTURE

Sunshine Act Meetings

AGENCY: Rural Telephone Bank, USDA.

ACTION: Staff Briefing for the Board of Directors.

TIME AND DATE: 2 p.m., Thursday, August 3, 2000.

PLACE: Room 5030, South Building, Department of Agriculture, 1400 Independence Avenue, SW., Washington, DC.

STATUS: Open.

MATTERS TO BE DISCUSSED:

1. Current telecommunications industry issues.

2. Status of PBO planning.

3. Retirement of class A stock in FY 2000.

4. Annual class C stock dividend rate.

5. Board of Directors, election.

6. Administrative issues.

ACTION: Board of Directors Meeting.

TIME AND DATE: 9 a.m., Friday August 4, 2000.

PLACE: Room 104-A, The Williamsburg Room, Department of Agriculture, 12th & Jefferson Drive, SW., Washington, DC.

STATUS: Open.

MATTERS TO BE CONSIDERED: The following matters have been placed on the agenda for the Board of Directors meeting:

1. Call to order.

2. Action on Minutes of the May 12, 2000, board meeting.

3. Report on loans approved in the third quarter of FY 2000.

4. Report on third quarter financial activity for FY 2000.

5. Privatization Committee report.

6. Consideration of resolution to retire class A stock in FY 2000.

7. Consideration of resolution to set annual class C stock dividend rate.

8. Final dates for receipt and tabulation of nominations.

9. Adjournment.

CONTACT PERSON FOR MORE INFORMATION: Roberta D. Purcell, Assistant Governor, Rural Telephone Bank, (202) 720-9554.

Dated: July 20, 2000.
Roberta D. Purcell,
Acting Governor, Rural Telephone Bank.

[FR Doc. 00-18849 Filed 7-20-00; 5:02 pm]

BILLING CODE 3410-15-M